DEPARTMENT OF COMMERCE

National Oceanic and Atmospheric Administration

RIN 0648-XC706

Caribbean Fishery Management Council; Public Meetings

AGENCY: National Marine Fisheries Service (NMFS), National Oceanic and Atmospheric Administration (NOAA), Commerce.

ACTION: Notice of public meetings.

SUMMARY: The Caribbean Fishery Management Council's Scientific and Statistical Committee (SSC) will hold meetings.

DATES: The SSC meetings will be held June 19-20, 2013. The SSC will convene on June 19, 2013, from 9 a.m. until 5 p.m., and will reconvene on June 20, 2013, from 8:30 a.m. to 5 p.m.

The meetings are open to the public, and will be conducted in English.

ADDRESSES: The meetings will be held at the Caribbean Fishery Management Council Headquarters, located at 270 Muñoz Rivera Avenue, 4th Floor, Suite 401, San Juan, Puerto Rico 00918

FOR FURTHER INFORMATION CONTACT: Caribbean Fishery Management Council, 270 Muñoz Rivera Avenue, Suite 401, San Juan, Puerto Rico 00918, telephone: (787) 766-5926.

SUPPLEMENTARY INFORMATION: The SSC will meet to discuss the items contained in the following agenda:

June 19, 2013—9 a.m.-5 p.m.

• Call to order

• Roll Call

• Adoption of Agenda

Review SEFSC re-analysis of queen and silk snapper based on SEDAR 26 data, including reviewing the assumptions of the new analysis and the most appropriate application of a control rule that would allow the estimation of quantitative ACL advice.

June 20, 2013—8:30 a.m.-5 p.m.

• Continue discussion of the new SEFSC queen and silk snapper analysis.

• Review and comment on the final stock assessment reports for SEDAR 30 U.S. Caribbean Queen triggerfish. The report can be downloaded from the SEDAR Web site: http://www.sefsc.noaa.gov/sedar/Sedar_Workshops.jsp?WorkshopNum=30

• Other business

• Adjourn meeting

Special Accommodations

These meetings are physically accessible to people with disabilities. For more information or request for sign language interpretation and/other auxiliary aids, please contact Mr. Miguel A. Rolón, Executive Director, Caribbean Fishery Management Council, 270 Muñoz Rivera Avenue, Suite 401, San Juan, Puerto Rico, 00918, telephone (787) 766-5926, at least 5 days prior to the meeting date.

Dated: May 28, 2013
Tracey L. Thompson,
Acting Deputy Director, Office of Sustainable Fisheries, National Marine Fisheries Service.

[FR Doc. 2013-12911 Filed 5-30-13; 8:45 am]

BILLING CODE 3510-22-P